NATIONAL FOUNDATION FOR THE ARTS AND THE HUMANITIES

Institute of Museum and Library Services

Notice of Proposed Information Collection Requests: IMLS Collections Assessment for Preservation Forms

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning the three-year approval of the forms necessary to support the implementation of the Collections Assessment for Preservation (CAP) program. They are designed to collect information to support applications to the program by both museums and conservators/assessors as well as pre-program questionnaires and post-program evaluations.

A copy of the proposed information collection request can be obtained by contacting the individual listed below in the ADDRESSES section of this Notice.

DATES: Written comments must be submitted to the office listed in the addressee section below on or before March 12, 2021.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone: 202-653-4636, or by email at cbodner@imls.gov. Office hours are from 8:30 a.m. to 5 p.m., E.T., Monday through Friday, except Federal holidays.

FOR FURTHER INFORMATION CONTACT: Christopher J. Reich, Chief Administrator, Office of Museum Services, Institute of Museum and Library Services, 955 L'Enfant Plaza North SW, Suite 4000, Washington DC 20024-2135. Mr. Reich can be reached by telephone at 202-653-4685, or by email at creich@imls.gov.

SUPPLEMENTARY INFORMATION: IMLS is particularly interested in public comment that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grant making, research, and policy development. Our vision is a nation where museums and libraries work together to transform the lives of individuals and communities. To learn more, visit www.imls.gov.

II. Current Actions

The Collections Assessment for Preservation (CAP) program allows a qualified conservator to study of all of a museum's collections, buildings and building systems, as well as its policies and procedures relating to collections care. Participants who complete the program receive an assessment report with prioritized recommendations to improve collections care. The forms submitted for public review in this Notice are application forms for assessors and participating museums; pre-visit site questionnaires for participating museums; CAP program evaluation forms for participating museums and assessors; and program Outcomes Based Evaluation forms.

Agency: Institute of Museum and Library Services.

Title: IMLS Collections Assessment for Preservation Forms.

OMB Control Number: 3137-NEW.

Agency Number: 3137.

Respondents/Affected Public: Museum professionals and professional conservators.

Total Estimated Number of Annual Respondents: TBD.

Frequency of Response: TBD.

Average Minutes per Response: TBD.

Total Estimated Number of Annual Burden Hours: TBD.

Cost Burden (dollars): TBD.

Public Comments Invited: Comments submitted in response to this Notice will be summarized and/or included in the request for OMB's clearance of this information collection.

Dated: January 8, 2021.
Kim Miller,
Senior Grants Management Specialist, Institute of Museum and Library Services.

[FR Doc. 2021-00548 Filed 1-12-21; 8:45 am]

BILLING CODE 7036-01-P